INTERNATIONAL TRADE COMMISSION

[USITC SE-15-020]

Government in the Sunshine Act Meeting Notice

AGENCY HOLDING THE MEETING: United States International Trade Commission.

TIME AND DATE: July 16, 2015 at 2:00 p.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-534-538 and 731-TA-1274-1278. (Preliminary) (Corrosion-Resistant Steel Products from China, India, Italy, Korea, and Taiwan). The Commission is currently scheduled to complete and file its determinations on July 20, 2015; views of the Commission are currently scheduled to be completed and filed on July 27, 2015.

5. Outstanding action jackets: None.

In accordance with Commission policy, subject matter listed above, not disposed of at the scheduled meeting, may be carried over to the agenda of the following meeting.

By order of the Commission.
Issued: July 7, 2015.
William R. Bishop,
Supervisory Hearings and Information Officer.

[FR Doc. 2015-16909 Filed 7-7-15; 4:15 pm]

BILLING CODE 7020-02-P